DEPARTMENT OF DEFENSE

Department of the Navy

[Docket ID USN-2009-0015]

Privacy Act of 1974; System of Records

AGENCY: Department of the Navy, DoD.

ACTION: Notice to alter a system of records.

SUMMARY: The Department of the Navy proposes to alter a system of records to its inventory of record systems subject to the Privacy Act of 1974 (5 U.S.C. 552a), as amended.

DATES: The changes will be effective on July 8, 2009 unless comments are received that would result in a contrary determination.

ADDRESSES: Send comments to Mrs. Miriam Brown-Lam, HEAD, FOIA/Privacy Act Policy Branch, the Department of the Navy, 2000 Navy Pentagon, Washington, DC 20350-2000.

FOR FURTHER INFORMATION CONTACT: Mrs. Miriam Brown-Lam (202) 685-6545.

SUPPLEMENTARY INFORMATION: The Department of the Navy systems of records notice subject to the Privacy Act of 1974, (5 U.S.C. 552a), as amended, has been published in the Federal Register and is available from the address above.

The proposed systems reports, as required by 5 U.S.C. 552a(r) of the Privacy Act of 1974, as amended, were submitted on June 1, 2009, to the House Committee on Government Report, the Senate Committee on Homeland Security and Governmental Affairs, and the Office of Management and Budget (OMB) pursuant to paragraph 4c of Appendix I to OMB Circular No. A-130, “Federal Agency Responsibilities for Maintaining Records About Individual,” dated February 8, 1996 (February 20, 1996, 61 FR 6427).

Dated: June 1, 2009.
Morgan E. Frazier,
Alternate OSD Federal Register Liaison Officer, Department of Defense.

N01754-2

System name:

Navy/USMC Family Service Center Volunteers (April 28, 1999, 64 FR 22840).

Changes:

Change System ID to “NM01754-2”.

System name:

Delete entry and replace with “DON Family Support Program Volunteers.”

System location:

Delete entry and replace with “Fleet and Family Support Centers and Marine Corps Community Services. Official mailing addresses for commands that have these offices are published in the Standard Navy Distribution List that is available at http://doni.daps.dla.mil/sndl.aspx.”

Categories of individuals covered by the system:

Delete entry and replace with “Individuals who perform volunteer services for the Department of the Navy (DON) Family Support Program.”

Categories of records in the system:

Delete entry and replace with “File contains information such as name, home address, home telephone number, date of birth, age and number of children, experience, education, professional qualifications/skills, interests, hobbies, assignments, start and completion date of service and any other information essential for placing the volunteer in the most appropriate position in the DON Family Support Program.”

Authority for maintenance of the system:

Delete entry and replace with “10 U.S.C. 5013, Secretary of the Navy; 10 U.S.C. 5041, Headquarters, Marine Corps; SECNAVINST 1754.1B, DON Family Support Program; and NAVMC DIR 1754.6, Marine Corps Family Team Building.”

Purpose(s):

Delete entry and replace with “To define work setting placement, professional development requirements, mentor, coach, and supervise the performance of individuals who have volunteered to assist in the DON Family Support Program.”

* * * * *

Storage:

Delete entry and replace with “Paper files and electronic storage media.”

Retrievability:

Delete entry and replace with “Name of volunteer.”

Safeguards:

Delete entry and replace with “Password controlled system, file, and element access based on predefined need-to-know. Physical access to terminals, terminal rooms, buildings and activities' grounds are controlled by locked terminals and rooms, guards, personnel screening or visitor registers.”

Retention and disposal:

Delete entry and replace with “Records are retained for three years from the date the individual departs from the DON Family Support Program and then destroyed by shredding, burning, pulping, degaussing or erasing.”

System manager(s) and address:

Delete entry and replace with “Policy Official: Commander, Navy Installations Command (N9), 716 Sicard Street, SE., Suite 1000, Washington Navy Yard, Washington, DC 20374-5140.

Record Holders:

Fleet and Family Support Centers/Offices and Marine Corps Community Services. Official mailing addresses for commands that have these offices are published in the Standard Navy Distribution List that is available at http://doni.daps.dla.mil/sndl.aspx.

Notification procedure:

Delete entry and replace with “Individuals seeking to determine whether information about themselves is contained in this system should address written inquiries to the activity where they volunteer. Official mailing addresses for commands that have these offices are published in the Standard Navy Distribution List that is available at http://doni.daps.dla.mil/sndl.aspx.

Individuals should include their full name, dates of volunteer service and sign their request.”

Record access procedures:

Delete entry and replace with “Individuals seeking access to information about themselves contained in this system should address written inquiries to the activity where they volunteer. Official mailing addresses for commands that have these offices are published in the Standard Navy Distribution List that is available at http://doni.daps.dla.mil/sndl.aspx.

Individuals should include their full name, dates of volunteer service and sign their request.”

* * * * *

Record source categories:

Delete entry and replace with “Individual.”

* * * * *

NM01754-2

System name:

DON Family Support Program Volunteers.

System location:

Fleet and Family Support Centers and Marine Corps Community Services. Official mailing addresses for commands that have these offices are published in the Standard Navy Distribution List that is available at http://doni.daps.dla.mil/sndl.aspx.

Categories of individuals covered by the system:

Individuals who perform volunteer services for the Department of the Navy (DON) Family Support Program.

Categories of records in the system:

File contains information such as name, home address, home telephone number, date of birth, age and number of children, experience, education, professional qualifications/skills, interests, hobbies, assignments, start and completion date of service and any other information essential for placing the volunteer in the most appropriate position in the DON Family Support Program.

Authority for maintenance of the system:

10 U.S.C. 5013, Secretary of the Navy; 10 U.S.C. 5041, Headquarters, Marine Corps; SECNAVINST 1754.1B, DON Family Support Program; and NAVMC DIR 1754.6, Marine Corps Family Team Building.

Purpose(s):

To define work setting placement, professional development requirements, mentor, coach, and supervise the performance of individuals who have volunteered to assist in the DON Family Support Program.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD “Blanket Routine Uses” that appear at the beginning of the Navy's compilation of systems of records notices apply to this system.

Policies and practices for storing, retrieving, accessing, retaining, and disposing of records in the system:

Storage:

Paper files and electronic storage media.

Retrievability:

Name of volunteer.

Safeguards:

Password controlled system, file, and element access based on predefined need-to-know. Physical access to terminals, terminal rooms, buildings and activities' grounds are controlled by locked terminals and rooms, guards, personnel screening or visitor registers.

Retention and disposal:

Records are retained for three years from the date the individual departs from the DON Family Support Program and then destroyed.

System manager(s) and address:

Policy Official: Commander, Navy Installations Command (N9), 716 Sicard Street, SE., Suite 1000, Washington Navy Yard, Washington, DC 20374-5140.

Record Holders:

Fleet and Family Support Centers/Offices and Marine Corps Community Services. Official mailing addresses for commands that have these offices are published in the Standard Navy Distribution List that is available at http://doni.daps.dla.mil/sndl.aspx.

Notification procedure:

Individuals seeking to determine whether information about themselves is contained in this system should address written inquiries to the activity where they volunteer. Official mailing addresses for commands that have these offices are published in the Standard Navy Distribution List that is available at http://doni.daps.dla.mil/sndl.aspx.

Individuals should include their full name, dates of volunteer service and sign their request.

Record access procedures:

Individuals seeking access to information about themselves contained in this system should address written inquiries to the activity where they volunteer. Official mailing addresses for commands that have these offices are published in the Standard Navy Distribution List that is available at http://doni.daps.dla.mil/sndl.aspx.

Individuals should include their full name, dates of volunteer service and sign their request.

Contesting record procedures:

The Navy's rules for accessing records, and for contesting contents and appealing initial agency determinations are published in Secretary of the Navy Instruction 5211.5; 32 CFR part 701; or may be obtained from the system manager.

Record source categories:

Individual.

Exemptions claimed for the system:

None.

[FR Doc. E9-13266 Filed 6-5-09; 8:45 am]

BILLING CODE 5001-06-P